DEPARTMENT OF TRANSPORTATION

Surface Transportation Board

[Docket No. AB 55 (Sub-No. 726X); Docket No. AB 290 (Sub-No. 303X)]

CSX Transportation, Inc.—Abandonment and Discontinuance of Service Exemption—in the City of Richmond and Henrico County, VA; Norfolk Southern Railway Company—Abandonment and Discontinuance of Service Exemption—in the City of Richmond and Henrico County, VA

On February 21, 2013, CSX Transportation, Inc. (CSXT) and Norfolk Southern Railway Company (NSR) (collectively, Petitioners) jointly filed with the Surface Transportation Board a petition under 49 U.S.C. 10502 for exemption from the provisions of 49 U.S.C. 10903 for CSXT and NSR to abandon and discontinue service over a 1.55-mile railroad line known as the James River Industrial Track, between State Road 5 and the end of the line in the City of Richmond and Henrico County, VA.¹ Petitioners explain that they have made this joint filing because they jointly own a portion of the line, they each individually own different portions of the line, and they both are authorized to operate over the entire line. The line traverses United States Postal Service Zip Code 23231 and serves the station of Richmond.²

¹ Petitioners state that there are no mileposts on the line.

² Petitioners state that the only shipper on the line, Lehigh Cement Company, LLC, has relocated its facility from the line and does not oppose the proposed abandonment and discontinuance.

Petitioners state that, based on information in CSXT's and NSR's possession, the line does not contain Federally granted rights-of-way. Any documentation in Petitioners' possession will be made available to those requesting it.

The interest of railroad employees will be protected by the conditions set forth in Oregon Short Line Railroad—Abandonment Portion Goshen Branch Between Firth & Ammon, in Bingham & Bonneville Counties, Idaho, 360 I.C.C. 91 (1979).

By issuing this notice, the Board is instituting an exemption proceeding pursuant to 49 U.S.C. 10502(b). A final decision will be issued by June 11, 2013.

Any offer of financial assistance (OFA) under 49 CFR 1152.27(b)(2) will be due no later than 10 days after service of a decision granting the petition for exemption. Each OFA must be accompanied by a $1,600 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than April 2, 2013. Each trail use request must be accompanied by a $250 filing fee. See 49 CFR 1002.2(f)(27).

All filings in response to this notice must refer to Docket Nos. AB 55 (Sub-No. 726X) and AB 290 (Sub-No. 303X), and must be sent to: (1) Surface Transportation Board, 395 E Street SW., Washington, DC 20423-0001; (2) for CSXT—Louis E. Gitomer, Law Offices of Louis E. Gitomer, 600 Baltimore Ave., Suite 301, Towson, MD 21204; and (3) for NSR—Robert A. Wimbish, Baker & Miller PLLC, 2401 Pennsylvania Ave. NW., Suite 300, Washington DC 20037. Replies to the joint petition are due on or before April 2, 2013.

Persons seeking further information concerning abandonment procedures may contact the Board's Office of Public Assistance, Governmental Affairs, and Compliance at (202) 245-0238 or refer to the full abandonment or discontinuance regulations at 49 CFR pt. 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who commented during its preparation. Other interested persons may contact OEA to obtain a copy of the EA (or EIS). EAs in these abandonment proceedings normally will be made available within 60 days of the filing of the petition. The deadline for submission of comments on the EA generally will be within 30 days of its service.

Board decisions and notices are available on our Web site at “WWW.STB.DOT.GOV.”

Decided: March 7, 2013.
By the Board, Rachel D. Campbell, Director, Office of Proceedings.
Raina S. White,
Clearance Clerk.

[FR Doc. 2013-05797 Filed 3-12-13; 8:45 am]

BILLING CODE 4915-01-P